DEPARTMENT OF THE INTERIOR

National Park Service

Juan Bautista de Anza National Historic Trail Advisory Commission; Notice of Meeting

SUMMARY: Notice is given in accordance with the Federal Advisory Committee Act that the second meeting of the Juan Bautista de Anza National Historic Trail Advisory Commission will be held as follows:

DATES/TIMES: Saturday, February 7, 8 a.m. to 4:30 p.m. and Sunday, February 8, 8 a.m. to 12 p.m., 2004.

ADDRESSES: The meeting will be held in meeting room #2 at Palm Canyon Resort, 221 Palm Canyon Drive, Borrego Springs, CA 92004. A field trip to Anza-Borrego Desert State Park visitor center will occur on the afternoon of February 7. The public is welcome, but transportation will only be provided to commission members.

FOR FURTHER INFORMATION AND COPIES OF MEETING MINUTES CONTACT: Meredith Kaplan, Juan Bautista de Anza National Historic Trail, 1111 Jackson Street, Suite 700, Oakland, California 94607, at 510-817-1438, or meredith_kaplan@nps.gov.

SUPPLEMENTARY INFORMATION: The Advisory Commission was established in accordance with the National Trails System Act 915 U.S.C. 1241 et seq.), as amended by Public Law 191-365 to consult with the Secretary of the Interior on planning and other matters relating to the trail.

This meeting was originally scheduled for November 1 and 2, 2003 (Federal Register notice V68, N190, P56648 of 10/1/03), but due to the fires in southern California and the use of the meeting site as an evacuation center for the town of Julian, the meeting was rescheduled.

Agenda

1. Welcome.

2. Review trail status.

3. Discuss Annual Interpretive Plan and identify funding sources.

4. Review list of trail segments with list of constituencies and groups.

5. Develop promotional package.

6. Discuss attracting and keeping volunteers.

7. Plan for future of council.

This meeting is open to the public and opportunity will be provided for public comments at specific times during the meeting and prior to closing the meeting. The meeting will be recorded for documentation and transcribed for dissemination. Minutes of the meeting will be available to the public after approval of the full Advisory Commission.

Dated: December 22, 2003.
Arthur E. Eck,
Acting Regional Director, Pacific West Region.

[FR Doc. 04-1882 Filed 1-28-04; 8:45 am]

BILLING CODE 4310-4R-P